COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by the nonprofit agency employing persons who are blind or have other severe disabilities, and deletes products from the Procurement List previously furnished by such agency.

DATES: Effective on 10/5/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 8/4/2015 (80 FR 46250), the Committee for Purchase From People Who Are Blind or Severely Disabled published notice of proposed additions to the Procurement List.

After consideration of the material presented to it concerning capability of qualified nonprofit agency to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the products to the Government.

2. The action will result in authorizing a small entity to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s):

MR 10681—Bib, Baby, Halloween

MR 10683—Socks, Halloween

MR 10684—Gloves, Halloween

MR 10685—Party Favors, Halloween, Spiders and Webs

MR 10686—Party Favors, Halloween, Witch's Fingers

MR 10687—Party Favors, Halloween, Nose and Glasses

MR 10688—Party Favors, Halloween, Fangs

MR 10689—Party Favors, Halloween, Mini Spiral Note Book

MR 10690—Party Favors, Halloween, Sticky Eyes

Mandatory Source of Supply: Winston-Salem Industries for the Blind, Inc., Winston-Salem, NC

Mandatory Purchase For: Military commissaries and exchanges in accordance with the Code of Federal Regulations, Chapter 51, 51-6.4.

Contracting Activity: Defense Commissary Agency

Distribution: C-List

Deletions

On 8/4/2015 (80 FR 46250), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing a small entity to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

8440-00-205-2509—Belt, General Officers, Leather, Army, Black, 44

8440-00-205-2510—Belt, General Officers, Leather, Army, Black, 28

8440-00-205-2511—Belt, General Officers, Leather, Army, Black, 29

8440-00-205-2512—Belt, General Officers, Leather, Army, Black, 30

8440-00-205-2513—Belt, General Officers, Leather, Army, Black, 31

8440-00-205-2514—Belt, General Officers, Leather, Army, Black, 32

8440-00-205-2515—Belt, General Officers, Leather, Army, Black, 33

8440-00-205-2516—Belt, General Officers, Leather, Army, Black, 34

8440-00-205-2517—Belt, General Officers, Leather, Army, Black, 35

8440-00-205-2518—Belt, General Officers, Leather, Army, Black, 36

8440-00-205-2519—Belt, General Officers, Leather, Army, Black, 37

8440-00-205-2520—Belt, General Officers, Leather, Army, Black, 38

8440-00-205-2521—Belt, General Officers, Leather, Army, Black, 39

8440-00-205-2522—Belt, General Officers, Leather, Army, Black, 40

8440-00-205-2523—Belt, General Officers, Leather, Army, Black, 41

8440-00-205-2524—Belt, General Officers, Leather, Army, Black, 42

8440-00-205-2525—Belt, General Officers, Leather, Army, Black, 43

Mandatory Source of Supply: Stone Belt ARC, Inc., Bloomington, IN

Contracting Activity: Defense Logistics Agency Troop Support

Barry S. Lineback,
Director, Business Operations.

[FR Doc. 2015-22005 Filed 9-3-15; 8:45 am]

BILLING CODE 6353-01-P